DEPARTMENT OF JUSTICE

Notice of Lodging of Consent Decree under Comprehensive Environmental Response, Compensation and Liability Act

Notice is hereby given that on May 31, 2012, two proposed consent decrees in U.S. v. Jacob Goldberg & Son, Inc., et al., Civil Action No. 10 Civ. 3237, were lodged with the United States District Court for the Southern District of New York.

In this action the United States sought recovery, pursuant to the Comprehensive Environmental Response, Compensation, and Liability Act (“CERCLA”), 42 U.S.C. 9601 et seq., of response costs regarding the Port Refinery Superfund Site in the Village of Rye Brook, N.Y. (“Site”). One of the settlements, referred to as the “Second Partial Consent Decree,” provides for PSC Metals, Inc. and PSC Metals-New York, LLC to pay $225,000, and resolves the United States' claims against these defendants regarding the Site. The other settlement, referred to as the “Third Partial Consent Decree,” provides for Vincent A. Pace Scrap Metals, Inc. to pay $20,000 and also resolves the United States' claims against this defendant regarding the Site.

The Department of Justice will receive for a period of 30 days from the date of this publication comments relating to the two consent decrees. Comments should be addressed to the Assistant Attorney General, Environment and Natural Resources Division, and either emailed to pubcomment-ees.enrd@usdoj.gov or mailed to P.O. Box 7611, U.S. Department of Justice, Washington, DC 20044-7611, and should refer to U.S. v. Jacob Goldberg & Son, Inc., et al., D.J. Ref. 90-11-3-1142/1.

During the public comment period, the two consent decrees may also be examined on the following Department of Justice Web site: http://www.usdoj.gov/enrd/Consent_Decrees.html. Copies of the two consent decrees may also be obtained by mail from the Consent Decree Library, P.O. Box 7611, U.S. Department of Justice, Washington, DC 20044-7611 or by faxing or emailing a request to “Consent Decree Copy” (eescdcopy.enrd@usdoj.gov), fax number (202) 514-0097, phone confirmation number (202) 514-5271. If requesting copies of the two settlements from the Consent Decree Library by mail, please enclose a check in the amount of $8.00 (25 cents per page reproduction cost) payable to the U.S. Treasury or, if requesting by email or fax, forward a check in that amount to the Consent Decree Library at the address given above.

Ronald G. Gluck,
Assistant Section Chief, Environmental Enforcement Section, Environment and Natural Resources Division.

[FR Doc. 2012-13761 Filed 6-6-12; 8:45 am]

BILLING CODE 4410-15-P